DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on (301) 443-1129.

The following request has been submitted to the Office of Management and Budget for review under the Paperwork Reduction Act of 1995:

Proposed Project: Health Center Controlled Networks Progress Reports (OMB No. 0915-0315)—Revision

The Health Resources and Services Administration (HRSA) collects network outcome measures, conducts evaluation of those measures, and has an electronic reporting system for the following types of grantees: Health Information Technology Planning Grants, Electronic Health Record Implementation (including High Impact Electronic Health Records Implementation) for Health Center Controlled Networks, and Health Information Technology Innovations for Health Center Controlled Networks. In order to help carry out its mission, HRSA created a set of performance measures that grantees use to evaluate the effectiveness of their service programs and monitor their progress through the use of performance reporting data.

Grantees report to HRSA on their grants to accomplish the following goals: Increase access to needed data and services; improve quality, efficiency and effectiveness of network services; and enhance ability to track and monitor patient outcomes. Grantees submit their progress reports in a mid-year report and an accumulative annual progress report each fiscal year of the grant. The increase in burden since 2007 is due to an increase in the number of grantees (46 to 89) and an increase in the hours per response. The increase in the hours per response is due to a re-estimation of burden for grantees.

The annual estimate of burden is as follows:

Application | Number of respondents | Responses per respondent | Total responses | Hours per response | Total burden hours
Planning | 1 | 2 | 2 | 10 | 20
Electronic Health Records Implementation | 56 | 2 | 112 | 18 | 2,016
Innovations | 32 | 2 | 64 | 18 | 1,152
Total | 89 |  | 178 |  | 3,188

Written comments and recommendations concerning the proposed information collection should be sent within 30 days of this notice to the desk officer for HRSA, either by e-mail to OIRA_submission@omb.eop.gov or by fax to 202-395-6974. Please direct all correspondence to the “attention of the desk officer for HRSA.”

Dated: January 4, 2011.
Robert Hendricks,
Director, Division of Policy and Information Coordination.

[FR Doc. 2011-144 Filed 1-7-11; 8:45 am]

BILLING CODE 4165-15-P